DEPARTMENT OF LABOR

Employment and Training Administration

[TA-W-57,255]

Black & Decker, Power Tools Division, Including On-Site Leased Workers of Employment Control, Inc., Fayetteville, NC; Notice of Termination of Investigation

Pursuant to Section 221 of the Trade Act of 1974, as amended, an investigation was initiated on May 25, 2005 in response to a worker petition filed on behalf of all workers of Black & Decker, Power Tools Division, Fayetteville, North Carolina, including leased on-site workers from Employment Control.

The Department, at the request of the State agency, reviewed the petition for workers of the subject firm.

The certification review revealed that workers of Black & Decker are covered by an existing certification, TA-W-56,049, issued on December 16, 2004, which expires on December 16, 2006. Since the workers of Black & Decker, Power Tools Division, Fayetteville, North Carolina, including on-site leased workers of Employment Control, Inc., are covered by an existing certification, further investigation in this case would serve no purpose, and the investigation has been terminated.

Signed in Washington, DC this 8th day of July 2005.
Richard Church,
Certifying Officer, Division of Trade Adjustment Assistance.

[FR Doc. E5-3841 Filed 7-19-05; 8:45 am]

BILLING CODE 4510-30-P